DEPARTMENT OF AGRICULTURE

Commodity Credit Corporation

7 CFR Part 1402

RIN 0560-AH22

Policy for Certain Commodities Available for Sale

AGENCY: Commodity Credit Corporation, USDA.

ACTION: Final rule.

SUMMARY: This rule amends regulations of the Commodity Credit Corporation (CCC) relating to marketing procedures for commodities in CCC inventory to update agency provisions and provide for commodity sales through Internet-based marketing systems. This rule is intended to modernize and streamline CCC commodity marketing procedures.

DATES: Effective August 17, 2006.

FOR FURTHER INFORMATION CONTACT: Mark Overbo, Warehouse and Inventory Division, Farm Service Agency (FSA), United States Department of Agriculture (USDA), STOP 0553, 1400 Independence Avenue, SW., Washington, DC 20250-0553, telephone (202) 720-4647 or send e-mail to: Mark.Overbo@wdc.usda.gov. Persons with disabilities who require alternative means of communication (braille, large print, audiotape, etc.) should contact USDA's TARGET Center at (202) 720-2600 (voice and TDD).

SUPPLEMENTARY INFORMATION:

Discussion of Final Rule

Since the enactment of the Agricultural Act of 1949, CCC's major activity has been the administration and implementation of nonrecourse loans to producers of major agricultural commodities. Generally, Congress establishes loan rates for certain commodities on a per-unit basis. Under the program's “nonrecourse” provisions, the producer may satisfy the loan obligation through forfeiture to CCC of the commodity pledged as collateral for the loan. As a result, CCC acquires commodities that are forfeited or delivered under these nonrecourse loans. The accumulation of stocks of these forfeited commodities requires CCC to maintain provisions for their eventual disposal. The acquisition, procurement, storage, distribution, and disposal of commodities are handled by the Farm Service Agency under the administration of the Deputy Administrator for Commodity Opeartions. The regulations at 7 CFR part 1402 contain CCC policy for certain commodities available for sale by CCC.

This rule updates the regulations regarding the dissemination of general sales offering information to reflect current CCC policies. Current regulations at 7 CFR part 1402 provide that CCC will disseminate general sales information through a “CCC Sales List,” published in press release or similar form, and revised and republished periodically as necessary. Methods of providing commodity sales and CCC inventory listings have improved considerably since the regulations were last updated. Currently, sales offerings are being made electronically via several sources such as CCC's Commodity Operations Web site at http://www.fsa.usda.gov/daco/catalogs and through other privately-maintained, fully interactive on-line sales systems. This rule replaces the provisions dealing with the publication of the CCC Sales List with the current policies and procedures for Internet posting of commodity inventories offered for sale.

Notice and Comment

The changes made in this rule are a general edit and reorganization of part 1402 as a whole, which provides how CCC will disseminate information. Thus, this rule is exempt from the requirements of the Administrative Procedure Act (5 U.S.C. 553) for publication of a proposed rule for public notice and comment because it is a rule of agency procedure and practice.

Executive Order 12866

This rule has been determined to be not significant for the purposes of Executive Order 12866 and therefore has not been reviewed by the Office of Management and Budget (OMB).

Small Business Regulatory Enforcement Fairness Act

This rule will be submitted to Congress as required by the Small Business Regulatory Enforcement Fairness Act (SBREFA) of 1996 (5 U.S.C. 801 et seq.). The rule has been determined not to be a major regulatory action. Thus, the 60-day delay required by section 801 of SBREFA for Congressional review is not applicable.

Regulatory Flexibility Act

The Regulatory Flexibility Act is not applicable to this rule because CCC is not required by 5 U.S.C. 553 or any other law to publish a notice of proposed rule making for the subject matter of this rule.

Executive Order 12372

This program is not subject to Executive Order 12372, which requires intergovernmental consultation with State and local officials. See the notice related to 7 CFR part 3015, subpart V, published at 48 FR 29115 (June 24, 1983).

Environmental Assessment

The environmental impacts of this rule have been considered consistent with the provisions of the National Environmental Policy Act of 1969 (NEPA), 42 U.S.C. 4321 et seq., the regulations of the Council on Environmental Quality, 40 CFR parts 1500-1508, and the FSA regulations for compliance with NEPA, 7 CFR part 799. FSA completed an environmental evaluation and concluded the rule requires no further environmental review. No extraordinary circumstances or other unforeseeable factors exist which would require preparation of an environmental assessment or environmental impact statement. A copy of the environmental evaluation is available for inspection and review upon request.

Executive Order 12612

The Federalism implications of this rule are not sufficient to warrant preparation of a Federalism Assessment. This rule will not have a substantial direct effect on States or their political subdivisions or on the distribution of power and responsibilities among the various levels of Government.

Unfunded Mandates Reform Act of 1995

This Rule contains no Federal mandates as defined in Title II of the Unfunded Mandates Reform Act of 1995 (UMRA) for State, local, and tribal governments or the private sector. Therefore, this rule is not subject to sections 202 and 205 of UMRA.

Paperwork Reduction Act

There are no public information collection, reporting or recordkeeping requirements associated with this rulemaking.

Federal Assistance Programs

The title and number of the Federal assistance program found in the Catalog of Federal Domestic Assistance to which this final rule applies are Commodity Loans and Loan Deficiency Payments, 10.051.

List of Subjects in 7 CFR Part 1402

Agricultural commodities, Price support programs, Processed commodities, Surplus agricultural commodities.

For the reasons set out in the preamble, 7 CFR part 1402 is revised as set forth below:

1. Revise 7 CFR part 1402 to read as follows:

PART 1402—POLICY FOR CERTAIN COMMODITIES AVAILABLE FOR SALE

Sec.
1402.1 General.
1402.2 Sales of inventory.
1402.3 Submission of offers, terms, and conditions.
1402.4 Information availability.
1402.5 Late payments.

Authority: 7 U.S.C. 7285, 15 U.S.C. 714b and 714c.

§ 1402.1 General.

To facilitate trade through usual and customary channels, facilities, and arrangements of trade and commerce, the Commodity Credit Corporation (CCC) will disseminate general sales offering information on the Farm Service Agency's (FSA) Commodity Operations Web site located on the Worldwide Web at http://www.fsa.usda.gov/daco/default.htm. The Web site will be reviewed and amended as necessary to reflect current general sales offering information. CCC will make regular amendments as necessary deleting or adding to the sales provisions or changing prices or methods of sales. The information posted at this Web site is for the purpose of public information and does not constitute an offer to sell by CCC or an invitation for offers to purchase from CCC. CCC may make its commodities available for sale without prior notification to storing warehouse operators. Information pertaining to opportunities to purchase commodities from CCC will be published on the FSA Commodity Operations Web site when such opportunities are available.

§ 1402.2 Sales of inventory.

CCC will entertain offers from prospective buyers for the purchase of any commodities owned by CCC, including those commodities that are marketed through commercial, Internet-based marketing services. Various commodities owned by CCC may be offered for sale through commercial, Internet-based marketing services. Interested parties may submit requests for information related to Internet-based commodity sales to the Director, Warehouse and Inventory Division, Stop 0553, 1400 Independence Avenue, SW., Washington, DC 20250-9860.

§ 1402.3 Submission of offers, terms, and conditions.

Offers accepted by CCC will be subject to terms and conditions prescribed by CCC. These terms include, among other things, payment by wire transfer of funds, certified check or cashiers check before delivery of the commodity, removal of the commodity from CCC storage within a reasonable period of time, and in sales that require a commodity to be used for only a specific purpose, documentation that use of the commodity was for only that purpose.

§ 1402.4 Information availability.

The terms and conditions of sale with respect to commodities that are not sold through Internet-based marketing service are available online. Requests for terms and conditions may be addressed to the Director, Warehouse and Inventory Division, Stop 0553, 1400 Independence Avenue, SW., Washington, DC 20250-9860.

§ 1402.5 Late payments.

If payment is not received by CCC within the period specified in the sales contract, interest will be assessed by CCC. If a buyer fails to make arrangements for payment according to the provisions of the contract, CCC retains the right to terminate the sales contract. If CCC terminates the sales contract for default in whole or in part, CCC may offer the commodity for sale and the original party will be liable to CCC for any losses incurred and damages sustained as a result of the party's failure to timely remit payment for the commodity.

Signed in Washington, DC, on June 29, 2006.
Teresa C. Lasseter,
Executive Vice President, Commodity Credit Corporation.

[FR Doc. E6-11236 Filed 7-17-06; 8:45 am]

BILLING CODE 3410-05-P